DEPARTMENT OF HEALTH AND HUMAN SERVICES

Agency for Healthcare Research and Quality

Notice of Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. These meetings will be closed to the public in accordance with 5 U.S.C. App. 2 section 10(d), 5 U.S.C. section 552b(c)(4), and 5 U.S.C. section 552b(c)(6).

DATES: See below for dates of meetings:

1. Healthcare Safety and Quality Improvement Research (HSQR)

Date: June 19-20, 2013 (Open from 8:00 a.m. to 8:30 a.m. on June 19 and closed for remainder of the meeting)

2. Healthcare Effectiveness and Outcomes Research (HEOR)

Date: June 19-20, 2013 (Open from 8:00 a.m. to 8:30 a.m. on June 19 and closed for remainder of the meeting)

3. Healthcare Information Technology Research (HITR)

Date: June 19-21, 2013 (Open from 8:00 a.m. to 8:30 a.m. on June 19 and closed for remainder of the meeting)

4. Health Care Research and Training (HCRT)

Date: June 20, 2013 (Open from 8:00 a.m. to 8:30 a.m. on June 20 and closed for remainder of the meeting)

5. Health System and Value Research (HSVR)

Date: July 09-10, 2013 (Open from 8:00 a.m. to 8:30 a.m. on July 09 and closed for remainder of the meeting)

ADDRESSES: The five meetings will take place at the following locations:

HSQR, HEOR, HITR, HCRT

Gaithersburg Marriott Washingtonian Center, 9751 Washingtonian Boulevard, Gaithersburg, Maryland 20878.

HSVR

Hyatt Regency Hotel Bethesda, One Metro Center, Bethesda, MD 20814.

FOR FURTHER INFORMATION CONTACT: (To obtain a roster of members, agenda or minutes of the non-confidential portions of the meetings.)

Mrs. Bonnie Campbell, Committee Management Officer, Office of Extramural Research Education and Priority Populations, AHRQ, 540 Gaither Road, Suite 2000, Rockville, Maryland 20850, Telephone (301) 427-1554.

SUPPLEMENTARY INFORMATION: In accordance with section 10(a)(2) of the Federal Advisory Committee Act (5 U.S.C. App. 2), AHRQ announces meetings of the scientific peer review groups listed above, which are subcommittees of AHRQ's Health Services Research Initial Review Group Committee. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

Dated: May 8, 2013.
Carolyn M. Clancy,
AHRQ Director.

[FR Doc. 2013-11576 Filed 5-20-13; 8:45 am]

BILLING CODE 4160-90-M